COURT SERVICES AND OFFENDER SUPERVISION AGENCY FOR THE DISTRICT OF COLUMBIA

Publication of Fiscal Year 2023 Service Contract Inventory

AGENCY: Court Services and Offender Supervision Agency for the District of Columbia (CSOSA).

ACTION: Notice of public availability.

SUMMARY: In accordance with section 743 of Division C of the FY2010 Consolidated Appropriations Act, the Court Services and Offender Supervision Agency hereby advises the public of the availability of the FY 2020 Service Contract Inventory. This analysis provides information on service contract actions over $25,000 that were made in FY2022. The information is organized by function to show how contracted resources are distributed throughout the agency. This inventory analysis and plan have been developed in accordance with guidance issued on November 5, 2010, and December 19, 2011, by the Office of Management and Budget's Office of Federal Procurement Policy (OFPP). CSOSA's FY2022 Service Contract Inventory Analysis, and the FY2023 Service Contract Inventory Plan is available on CSOSA's website at: CSOSA-SCI-2022-2023-Analysis-Report.pdf. CSOSA's FY 2022 service contract inventory data is included in the government-wide inventory posted on www.acquisition.gov and the government-wide inventory can be filtered to display the inventory data for CSOSA.

FOR FURTHER INFORMATION CONTACT: Reggie James, Senior Procurement Executive, Associate Director, Office of Administration, 800 N Capitol St. NW, Washington, DC 20002, at (202) 220-5707 or Reggie.James@csosa.gov.

Dated: September 13, 2024.
Willis Stamps,
Supervisory Attorney-Advisor.

[FR Doc. 2024-21384 Filed 9-18-24; 8:45 am]

BILLING CODE 3129-04-P